DEPARTMENT OF HEALTH AND HUMAN SERVICES

National Institutes of Health

National Toxicology Program (NTP); Center for the Evaluation of Risks to Human Reproduction (CERHR); Availability of the Draft NTP Brief on Di-(2-ethylhexyl) phthalate; Request for Public Comments

AGENCY: National Institute for Environmental Health Sciences (NIEHS); National Institutes of Health (NIH).

ACTION: Request for comments.

SUMMARY: CERHR invites the submission of public comments on the draft NTP Brief for di-(2-ethylhexyl)phthalate (DEHP). The draft NTP Brief is available from the CERHR Web site (http://cerhr.niehs.nih.gov see “CERHR Reports & Monographs”) or in hardcopy from CERHR (see ADDRESSES below). Public comments will be considered during the peer review and finalization of the NTP Brief.

DATES: Written comments on the draft NTP Brief for DEHP should be received by July 5, 2006.

ADDRESSES: Public comments and any other correspondence should be addressed to Dr. Michael D. Shelby, CERHR Director, NIEHS, P.O. Box 12233, MD EC-32, Research Triangle Park, NC 27709 (mail), (919) 541-3455 (phone), (919) 316-4511 (fax), or shelby@niehs.nih.gov (e-mail). Courier address: CERHR, 79 T.W. Alexander Drive, Building 4401, Room 103, Research Triangle Park, NC 27709.

SUPPLEMENTARY INFORMATION:

Background

DEHP (CAS RN: 117-81-7) is a high production volume chemical used as a plasticizer of polyvinyl chloride in the manufacturer of a wide variety of consumer products, such as building products, car products, clothing, food packaging, children's products (but not in toys intended for mouthing) and in polyvinyl chloride medical devices. On October 10-12, 2005, CERHR convened an expert panel to conduct an updated evaluation of the potential reproductive and developmental toxicities of DEHP. The expert panel report was released for public comment on November 21, 2005 (Federal Register Vol. 70, No. 220, pp. 69567, November 16, 2005). Following this public comment period, CERHR staff prepared the draft NTP Brief for DEHP that provides in plain language:

• Background information on the substance(s).

• Findings of the expert panel.

• Discussion of any relevant data available after the expert panel meeting.

• NTP's conclusions on the potential for the substance to cause adverse reproductive and/or developmental effects in exposed humans.

Upon finalization, the NTP Brief for DEHP will be included in the CERHR Monograph for DEHP. The draft NTP Brief for DEHP and related background materials, including the DEHP expert panel report and previously received public comments, are available on the CERHR Web site (http://cerhr.niehs.nih.gov see Di-(2-ethylhexyl)phthalate under “CERHR Reports & Monographs”).

Request for Comments

The NTP invites written public comments on the draft NTP Brief for DEHP. Any comments received will be posted on the CERHR Web site and considered during the peer review and finalization of the NTP Brief for DEHP. Persons submitting written comments are asked to include their name and contact information (affiliation, mailing address, telephone and facsimile numbers, e-mail, and sponsoring organization, if any) and submit comments to Dr. Shelby (see ADDRESSES above) for receipt by July 5, 2006.

Background Information on CERHR

The NTP established CERHR in June 1998 [Federal Register, December 14, 1998 (Volume 63, Number 239, page 68782)]. CERHR is a publicly accessible resource for information about adverse reproductive and/or developmental health effects associated with exposure to environmental and/or occupational exposures.

CERHR invites the nomination of agents for review or scientists for its expert registry. Information about CERHR and the nomination process can be obtained from its homepage (http://cerhr.niehs.nih.gov) or by contacting Dr. Michael Shelby, CERHR Director (see ADDRESSES). CERHR selects chemicals for evaluation based upon several factors including production volume, potential for human exposure from use and occurrence in the environment, extent of public concern, and extent of data from reproductive and developmental toxicity studies. Expert panels conduct scientific evaluations of agents selected by CERHR in public forums. Following these evaluations, CERHR prepares the NTP-CERHR monograph on the agent evaluated. The monograph is transmitted to appropriate federal and state agencies and made available to the public.

Dated: May 25, 2006.
Samuel H. Wilson,
Deputy Director, National Institute of Environmental Health Sciences and National Toxicology Program.

[FR Doc. E6-8677 Filed 6-2-06; 8:45 am]

BILLING CODE 4140-01-P